FEDERAL EMERGENCY MANAGEMENT AGENCY

44 CFR Part 65

[Docket No. FEMA-D-7503]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program.

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act. This rule is categorically excluded from the requirements of 44 CFR Part 10, Environmental Consideration. No environmental impact assessment has been prepared.

Regulatory Flexibility Act. The Associate Director, Mitigation Directorate, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification. This interim rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama:
Talladega | City of Sylacauga | October 1, 1999, October 8, 1999, Daily Home | The Honorable Jesse L. Cleveland, Mayor of the City of Sylacauga, P.O. Box 390, Sylacauga, Alabama 35150 | September 21, 1999 | 010199 C
Florida:
Broward | Unincorporated areas | September 27, 2000, October 3, 2000, Sun-Sentinel | Mr. Roger J. Desjarlais, Broward County Administrator, 115 South Andrews Avenue, Room 409, Fort Lauderdale, Florida 33301 | April 20, 2000 | 125093 F
Alachua | City of Gainesville | October 11, 1999, October 18, 1999, The Gainesville Sun | Mr. Wayne Bowers, City of Gainesville Manager, P.O. Box 490, Gainesville, Florida 32602 | January 16, 2000 | 125107 D
Broward | City of Hollywood | September 27, 2000, October 3, 2000, Sun-Sentinel | Mr. Samuel Finz, Manager of the City of Hollywood, P.O. Box 229045, Hollywood, Florida 33022-9045 | April 20, 2000 | 125113 F
Manatee | Unincorporated areas | July 13, 2000, July 20, 2000, Bradenton Herald | Mr. Ernie Padgett, Manatee County Administrator, P.O. Box 1000, Bradenton, Florida 34206 | July 5, 2000 | 120153 B
Illinois:
Cook | Unincorporated areas | August 3, 2000, August 10, 2000, Daily Southtown | Mr. John H. Stroger, President of the Cook County, Board of Commissioners, 118 North Clark Street, Room 537, Chicago, Illinois 60602 | November 7, 2000 | 170054 F
Kane | City of Geneva | August 8, 2000, August 15, 2000, Kane County Chronicle | The Honorable Thomas Coughlin, Mayor of the City of Geneva, 22 South First Street, Geneva, Illinois 60134 | November 13, 2000 | 170325 B
McHenry | Village of Huntley | July 13, 2000, July 20, 2000, The Huntley Farmside | Mr. Charles Becker, President of the Village of Huntley, Village Hall, 11704 Coral Street, Huntley, Illinois 60142 | June 29, 2000 | 170480 C
McHenry | Unincorporated areas | July 14, 2000, July 21, 2000, The Northwest Herald | Mr. Michael Tryon, Chairperson, McHenry County Board, McHenry County Government Center, 2200 North Seminary Avenue, Woodstock, Illinois 60098 | June 29, 2000 | 170732 C
Cook | Village of Orland Park | August 3, 2000, August 10, 2000, Daily Southtown | The Honorable Daniel J. McLaughlin, Mayor of the Village of Orland Park, 14700 South Ravinier Avenue, Orland Park, Illinois 60462 | November 7, 2000 | 170140 F
Indiana:
Madison | City of Anderson | June 28, 2000, July 5, 2000, The Herald Bulletin | The Honorable J. Mark Lawler, Mayor of the City of Anderson, 120 East Eighth Street, Anderson, Indiana 46016 | October 4, 2000 | 180150 B
Allen | City of Fort Wayne | July 12, 2000, July 19, 2000, The Journal Gazette | The Honorable Graham Richard, Mayor of the City of Fort Wayne, 1 Main Street, Room 900, Fort Wayne, Indiana 46802-1804 | July 3, 2000 | 180003 D
Massachusetts: Bristol | Town of Easton | August 11, 2000, August 18, 2000, The Enterprise | Mr. Kevin Paicos, Town of Easton Administrator, 136 Elm Street, Easton, Massachusetts 02356 | August 10, 2000 | 250053
Michigan:
Macomb | Town of Chesterfield | October 11, 1999, October 18, 1999, Macomb Daily | Mr. Elbert James Tharp, Chesterfield Township Supervisor, 47275 Sugar Bush Road, Chesterfield, Michigan 48047 | October 5, 1999 | 260120 D
Macomb | City of Sterling Heights | June 14, 2000, June 21, 2000, The Macomb Daily | The Honorable Richard J. Notte, Mayor of the City of Sterling Heights, 40555 Utica Road, P.O. Box 8009, Sterling Heights, Michigan 48311 | September 5, 2000 | 260128 F
New Hampshire:
Cheshire | City of Keene | April 28, 2000, May 5, 2000, The Keene Sentinel | The Honorable Michael Blastos, Mayor of the City of Keene, City Hall 3 Washington Street, Keene, New Hampshire 03431 | April 21, 2000 | 330023 D
North Carolina:
Wake | Town of Cary | July 19, 2000, July 26, 2000, The Cary News | The Honorable Glenn D. Lang, Mayor of the Town of Cary, 318 North Academy Street, P.O. Box 8005, Cary, North Carolina 27512 | October 24, 2000 | 370238 E
Dare | Unincorporated areas | August 24, 2000, August 31, 2000, The Coastline Times | Mr. Stan White, Chairman of the Dare County Board of Commissioners, P.O. Box 1000, Manteo, North Carolina 27954 | August 18, 2000 | 375348 D
Ohio:
Greene | City of Beavercreek | July 3, 2000, July 10, 2000, Beavercreek News-Current | The Honorable Robert Glaser, Mayor of the City of Beavercreek, 1368 Research Park Drive, Beavercreek, Ohio 45432 | October 9, 2000 | 390876 B
Cuyahoga | City of Cleveland | June 22, 2000, June 29, 2000, The Plain Dealer | The Honorable Michael R. White, Mayor of the City of Cleveland, Cleveland City Hall 601 Lakeside Avenue, Room 202, Cleveland, Ohio 44114 | September 28, 2000 | 390104 B
Greene | City of Fairborn | July 3, 2000, July 10, 2000, Fairborn Daily Herald | The Honorable Larry L. Long, Mayor of the City of Fairborn, 44 West Hebble Avenue, Fairborn, Ohio 45324 | October 9, 2000 | 390195 C
Cuyahoga | City of Highland Heights | June 22, 2000, June 29, 2000, The Plain Dealer | The Honorable Francine G. Hogg, Mayor of the City of Highland Heights, 5827 Highland Road, Highland Heights, Ohio 44143 | August 28, 2000 | 390110 D
Pennsylvania:
Lancaster | City of Lancaster | July 25, 2000, August 1, 2000, Intelligencer Journal | The Honorable Charles W. Smithgall, Mayor of the City of Lancaster, P.O. Box 1599, 120 North Duke Street, Lancaster, Pennsylvania 17603-1599 | July 5, 2000 | 420552 B
Lancaster | Township of Manheim | July 25, 2000, August 1, 2000, Intelligencer Journal | Mr. Thomas Woodland, President, Manheim Township Board of Commissioners, 1840 Municipal Drive, Lancaster, Pennsylvania 17601-4162 | July 5, 2000 | 420556 C
Montgomery | Township of Plymouth | July 18, 2000, July 25, 2000, Times Herald | Ms. Joan Mower, Township of Plymouth Manager, 700 Belvoir Road, Plymouth Meeting, Pennsylvania 19462 | July 7, 2000 | 420955 E
Rhode Island:
Kent | City of Warwick | August 18, 2000, August 25, 2000, The Kent County Daily Times | The Honorable Scott Avedisian, Mayor of the City of Warwick, 3275 Post Road, Warwick, Rhode Island 02886 | November 24, 2000 | 445409
Virginia:
Brunswick | Unincorporated areas | September 13, 2000, September 20, 2000, Lake Gaston Gazette | Mr. J. Grady Martin, Chairman of the Brunswick County Board of Supervisors, County Courthouse, P.O. Box 399, Lawrenceville, Virginia 23868 | September 6, 2000 | 510236 B
Independent City | City of Winchester | August 30, 2000, September 5, 2000, Winchester Star | Mr. Edwin C. Daley, City of Winchester Manager, Rouss City Hall, 15 North Cameron Street, Winchester, Virginia 22601 | November 20, 2000 | 510173 B
Independent City | City of Winchester | July 5, 2000, July 12, 2000, Winchester Star | Mr. Edwin C. Daley, City of Winchester Manager, Rouss City Hall, 15 North Cameron Street, Winchester, Virginia 22601 | June 23, 2000 | 510173 B
Wisconsin:
Calumet | City of Brillion | June 8, 2000, June 15, 2000, The Brillion News | The Honorable Robert Mathiebe, Mayor of the City of Brillion, 130 Calumet Street, City Hall, Brillion, Wisconsin 54110 | September 14, 2000 | 550036 C
Calumet | Unincorporated areas | June 8, 2000, June 15, 2000, Chilton Times-Journal | Ms. Allison Blackmer, Calumet County Board of Commissioners, Courthouse, 206 Court Street, Chilton, Wisconsin 53014 | September 14, 2000 | 550035 B

(Catalog of Federal Domestic Assistance No. 83.100, “Flood Insurance”)

Dated: October 30, 2000.
Margaret E. Lawless,
Deputy Associate Director for Mitigation.

[FR Doc. 00-28257 Filed 11-2-00; 8:45 am]

BILLING CODE 6718-04-P